DEPARTMENT OF COMMERCE

Economic Development Administration

Proposed Information Collection; Comment Request; Comprehensive Economic Development Strategy

Correction

In notice document 2015-06194 beginning on page 13835 in the issue of Tuesday, March 17, 2015, make the following correction:

On page 13836, in the second column, in the fifth line, the file date “3-17-15” should read “3-16-15”.

[FR Doc. C1-2015-06194 Filed 3-24-15; 8:45 am]

BILLING CODE 1505-01-D